DEPARTMENT OF TRANSPORTATION

Federal Aviation Administration

Agency Information Collection Activities: Requests for Comments; Clearance of a Renewed Approval of Information Collection: Certification Procedures for Products and Parts Correction

AGENCY: Federal Aviation Administration (FAA), DOT.

ACTION: Notice correction.

SUMMARY: The FAA published two notices in the Federal Register inviting public comments about our intention to request the Office of Management and Budget (OMB) approval to renew an information collection. The Federal Register Notice with a 60-day comment period soliciting comments on the following collection of information was published on September 26, 2018. The Federal Register Notice with a 30-day comment period soliciting comments on the following collection of information was published on February 13, 2019. Both of these notices added an additional five responses to the original collection request because of adding additional blocks to one of the forms. This was incorrect. The additional blocks were added, but the previous respondents had already used the form using a previous block on the form. Also the new blocks were named incorrectly.

FOR FURTHER INFORMATION CONTACT: Joy Wolf by email at: joy.wolf@faa.gov; phone: 202-267-4524.

SUPPLEMENTARY INFORMATION:

OMB Control Number: 2120-0018.

Title: Certification Procedures for Products and Parts.

Form Numbers: FAA Forms 8110-12, 8130-1, 8130-6, 8130-9, 8130-12.

Background: The Federal Register Notice with a 60-day comment period soliciting comments on the following collection of information was published on September 26, 2018 (83 FR 48682). The Federal Register Notice with a 30-day comment period soliciting comments on the following collection of information was published on February 13, 2019 (84 FR 3850). The request was to add five additional responses. This was incorrect. The responses were already captured in Block 9A.

The new block numbers added to the form were published in the 60-day and 30-day notices inverted. Block 9D is Exhibition and block 9E is Show Compliance with CFR.

Issued in Washington, DC.
Joy Wolf,
Directives & Forms Management Officer (DMO/FMO), Aircraft Certification Service.

[FR Doc. 2019-08849 Filed 4-30-19; 8:45 am]

BILLING CODE 4910-13-P